DEPARTMENT OF JUSTICE

Drug Enforcement Administration

Manufacturer of Controlled Substances; Notice of Registration

By Notice dated June 14, 2000, and published in the Federal Register on June 26, 2000, (65 FR 39430), Penick Corporation, 158 Mount Olivet Avenue, Newark, New Jersey 07114, made application to the Drug Enforcement Administration (DEA) for registration as a bulk manufacturer of the basic classes of controlled substances listed below:

Drug | Schedule
Codeine (9050) | II
Dihydrocodeine (9120) | II
Oxycodone (9143) | II
Hydromorphone (9150) | II
Hydrocodone (9193) | II
Meperidine (9230) | II
Morphine (9300) | II
Thebaine (9333) | II
Opium extracts (9610) | II
Opium powdered (9639) | II

The firm plans to manufacture the listed controlled substances for distribution as bulk pharmaceutical products to its customers.

DEA has considered the factors in Title 21, United States Code, section 823(a) and determined that the registration of Penick Corporation to manufacture the listed controlled substances is consistent with the public interest at this time. DEA has investigated Penick Corporation to ensure that the company's registration is consistent with the public interest. This investigation included inspection and testing of the company's physical security systems, verification of the company's compliance with state and local laws, and a review of the company's background and history. Therefore, pursuant to 21 U.S.C. 823 and 28 CFR 0.100 and .0104, the Deputy Assistant Administrator, Office of Diversion Control, hereby orders that the application submitted by the above firm for registration as a bulk manufacturer of the basic classes of controlled substances listed above is granted.

Dated: August 30, 2001.
Laura M. Nagel,
Deputy Assistant Administrator, Office of Diversion Control, Drug Enforcement Administration.

[FR Doc. 01-22571 Filed 9-7-01; 8:45 am]

BILLING CODE 4410-09-M